COMMODITY FUTURES TRADING COMMISSION

Sunshine Act Meetings

TIME AND DATE: 10:00 a.m., Friday February 22, 2013.

PLACE: 1155 21st St. NW., Washington, DC, 9th Floor Commission Conference Room.

STATUS: Closed.

MATTERS TO BE CONSIDERED: Surveillance and Enforcement Matters. I the event that the times or dates of these or any future meetings change, an announcement of the change, along with the new time and place of the meeting will be posted on the Commission's Web site at http://www.cftc.gov

CONTACT PERSON FOR MORE INFORMATION: Melissa Jurgens, 202-418-5516.

Stacy D. Yochum,
Counsel to the Executive Director.

[FR Doc. 2013-01734 Filed 1-23-13; 4:15 pm]

BILLING CODE 6351-01-P